DEPARTMENT OF EDUCATION

Applications for New Awards: Center of Educational Excellence for Black Teachers (CEEBT) Program at Historically Black Colleges and Universities (HBCU)

AGENCY: Office of Postsecondary Education, Department of Education.

ACTION: Notice inviting applications (NIA).

SUMMARY: The Department of Education (Department) is issuing a notice inviting applications for fiscal year (FY) 2021 for the Center of Educational Excellence for Black Teachers Program at Historically Black Colleges and Universities (CEEBT program), Assistance Listing Number (ALN) 84.116V. This notice relates to the approved information collection under OMB control number 1894-0006.

DATES:

Applications available: October 29, 2021.

Deadline for transmittal of applications: November 29, 2021.

ADDRESSES: For the addresses for obtaining and submitting application, please refer to our Common Instructions for Applicants to Department of Education Discretionary Grant Programs, published in the Federal Register on February 13, 2019 (84 FR 3768), and available at www.govinfo.gov/content/pkg/FR-2019-02-13/pdf/2019-02206.pdf.

FOR FURTHER INFORMATION CONTACT: Ms. Wendy Lawrence, U.S. Department of Education, 400 Maryland Avenue SW, Room 2C201, Washington, DC 20202-4260. Telephone: (202) 453-7821. Email: Wendy.Lawrence@ed.gov.

If you use a telecommunications device for the deaf (TDD) or a text telephone (TTY), call the Federal Relay Service (FRS), toll-free, at 1-800-877-8339.

SUPPLEMENTARY INFORMATION:

Full Text of Announcement

I. Funding Opportunity Description

Purpose of Program: The CEEBT program is designed to support a model center of educational excellence at one or more HBCUs with a demonstrable record in graduating highly skilled and well-prepared Black teachers.

Background: In alignment with the Department's strategic goal for a more diverse educator workforce, the CEEBT program is designed to support one or more model centers of educational excellence at HBCUs to help increase the number of well-prepared Black teachers who teach in our Nation's elementary and secondary schools. This program focuses on the various aspects of the teacher preparation pipeline, including the recruitment, preparation, support, and placement of Black teachers.

Increasing educator diversity is critical to our agency's mission of promoting educational excellence and ensuring equal access for all students to a diverse and well-qualified educator workforce. Unfortunately, the current teacher workforce does not reflect the demographics of the Nation's students. In 2017-18, the most recent year for which data were available, 79 percent of public-school educators were White, while 21 percent were teachers of color.¹ Prior research has estimated Black male teachers represent only 2 percent of the teaching workforce.² These figures stand in marked contrast with the student population, which in fall 2018 was 47 percent White, 15 percent Black, and 27 percent Hispanic.³ Research has demonstrated that teachers of color, which includes Black teachers, can be positive role models for all students in breaking down negative stereotypes and preparing students to live and work in a multiracial society.⁴ Thus, supporting Black and other teachers of color is a critical strategy for schools to support educational equity for students, particularly Black students and other students of color.

¹ nces.ed.gov/programs/digest/d19/tables/dt19_209.10.asp?current=yes.

² www2.ed.gov/rschstat/eval/highered/racial-diversity/state-racial-diversity-workforce.pdf.

³ nces.ed.gov/programs/digest/d20/tables/dt20_203.70.asp?current=yes.

⁴ www2.ed.gov/rschstat/eval/highered/racial-diversity/state-racial-diversity-workforce.pdf.

While a diverse educator workforce benefits all students, some research has suggested that it may be particularly important for Black students to share the classroom with Black educators. When they do, higher levels of student achievement,⁵ more rigorous course-taking,⁶ increased referrals to gifted and talented programs,⁷ and reductions in exclusionary discipline,⁸ have all been noted. Similarly, research has shown that Black students who are taught by Black teachers are more likely to graduate from high school and to enroll in college compared to their peers who are taught by non-Black teachers.⁹ Therefore, by supporting teachers of color, specifically Black teachers, through this grant, the Department seeks to address one of the root causes of institutional barriers to equity in the academic environment.¹⁰

⁵ Egalite, Anna, Brian Kisida, and Marcus A. Winters. “Representation in the Classroom: The Effect of Own-race Teachers on Student Achievement,” Economics of Education Review, 45 (April 2015), 44-52.

⁶ Grissom, Jason, Sarah Kabourek, and Jenna Kramer. “Exposure to Same-race or Same-ethnicity Teachers and Advanced Math Course-taking in High School: Evidence from a Diverse Urban District,” Teachers College Record, 122 (2020), 1-42.

⁷ Egalite, Anna, Brian Kisida, and Marcus A. Winters. “Representation in the Classroom: The Effect of Own-race Teachers on Student Achievement,” Economics of Education Review, 45 (April 2015), 44-52.

⁸ Grissom, Kabourek, and Kramer, 1-42; Constance, Lindsay, and Cassandra M. D. Hart. “Exposure to Same-race Teachers and Student Disciplinary Outcomes for Black Students in North Carolina,” Educational Evaluation and Policy Analysis, 39 (2017), 485-510.

⁹ www.nber.org/system/files/working_papers/w25254/w25254.pdf.

¹⁰ www2.ed.gov/rschstat/eval/highered/racial-diversity/state-racial-diversity-workforce.pdf.

Accordingly, this program encourages HBCUs to develop and enhance a center of educational excellence that will implement outreach, recruitment, preparation, and support of Black teachers in subject areas that are of critical need in schools (e.g., math, science, special education, multilingual education, career and technical education).

HBCUs are positioned to enhance and develop high-quality programs that improve the preparation, support, and ultimately the retention of Black teachers in critical shortage subject areas. This program is a comprehensive approach to support multiple levels of the educational pipeline leading to educational success.

Priorities: This notice contains one absolute priority and three competitive preference priorities.

We are establishing these priorities for the FY 2021 grant competition and any subsequent year in which we make awards from the list of unfunded applications from this competition, in accordance with section 437(d)(1) of the General Education Provisions Act (GEPA), 20 U.S.C. 1232(d)(1).

Absolute Priority: This priority is an absolute priority. Under 34 CFR 75.105(c)(3), we consider only applications that meet this priority.

This priority is:

Projects that are evidence-based comprehensive teacher preparation programs (including extensive clinical experience).

To meet this priority, the applicant must describe its record in graduating highly skilled and well-prepared Black teachers. The applicant must also address how it will prepare teacher candidates to—

(a) Create safe, healthy, inclusive, asset-based (i.e., focusing on students' strengths), and productive classroom environments designed to reduce bias, and increase engagement and belonging;

(b) Integrate universal design for learning principles in pedagogical practices and classroom features;

(c) Design and deliver instruction in ways that are engaging and provide students with opportunities to think critically and solve complex problems, apply learning in authentic and real-world settings, communicate and collaborate effectively, and develop academic mindsets, including through project-based, work-based, or other experiential learning opportunities;

(d) Address inequities and bias and develop racially, ethnically, culturally, and linguistically inclusive pedagogy; and

(e) Build meaningful and trusting relationships with students' families to support in-home, community-based, and in-school learning.

Competitive Preference Priorities: These priorities are competitive preference priorities. Under 34 CFR 75.105(c)(2)(i), we award up to an additional 20 points to an application, depending on how well the application meets these priorities. An applicant may address one, two, or all three competitive preference priorities. The point value for each priority is in parenthesis.

These priorities are:

Competitive Preference Priority 1—Projects that are Designed to Increase the Number of Well-prepared Black Male Teachers (up to 10 points).

Projects that are designed to increase the number of well-prepared Black male teachers who teach in high-need school districts, in a manner permissible by law.

Competitive Preference Priority 2—Increasing the Number of Teachers with Full Certification in a Teacher Shortage Area (up to 5 points).

Projects that are designed to prepare, support, and place fully certified teachers in a teacher shortage area.

Note: For assistance in identifying “teacher shortage area,” applicants may refer to the official list of teacher shortage areas (TSA) searchable by State and academic subject at https://tsa.ed.gov. In addition, a summary report of TSAs is available at www2.ed.gov/about/offices/list/ope/pol/bteachershortageareasreport201718.pdf.

Competitive Preference Priority 3—Increasing Postsecondary Education Access for Undergraduate Students Seeking To Become Teachers (up to 5 points).

Projects that are designed to support the development and implementation of comprehensive teacher preparation programs that integrate multiple services or initiatives across academic and student affairs, such as academic advising, counseling, stipends, childcare, structured/guided pathways, career services, or student financial aid, with the goal of increasing program completion and credential attainment.

Definitions: The following definitions are from 34 CFR part 77.1.

Demonstrates a rationale means a key project component included in the project's logic model is informed by research or evaluation findings that suggest the project component is likely to improve relevant outcomes.

Logic model (also referred to as a theory of action) means a framework that identifies key project components of the proposed project (i.e., the active “ingredients” that are hypothesized to be critical to achieving the relevant outcomes) and describes the theoretical and operational relationships among the key project components and relevant outcomes.

Note: In developing logic models, applicants may want to use resources such as the Regional Educational Laboratory Program's (REL Pacific) Education Logic Model Application, available at https://ies.ed.gov/ncee/edlabs/regions/pacific/elm.asp. Other sources include: https://ies.ed.gov/ncee/edlabs/regions/pacific/pdf/REL_2014025.pdf, https://ies.ed.gov/ncee/edlabs/regions/pacific/pdf/REL_2014007.pdf, and https://ies.ed.gov/ncee/edlabs/regions/northeast/pdf/REL_2015057.pdf.

Project component means an activity, strategy, intervention, process, product, practice, or policy included in a project. Evidence may pertain to an individual project component or to a combination of project components (e.g., training teachers on instructional practices for English learners and follow-on coaching for these teachers).

Relevant outcome means the student outcome(s) or other outcome(s) the key project component is designed to improve, consistent with the specific goals of the program.

Waiver of Proposed Rulemaking: Under the Administrative Procedure Act (5 U.S.C. 553), the Department generally offers interested parties the opportunity to comment on proposed priorities, selection criteria, definitions, and other requirements. Section 437(d)(1) of GEPA, however, allows the Secretary to exempt from rulemaking requirements regulations governing the first grant competition under a new or substantially revised program authority. This is the first grant competition for this program, and therefore qualifies for this exemption. To ensure timely grant awards, the Secretary has decided to forgo public comment on the priorities and requirements under section 437(d)(1) of GEPA.

Program Authority: 20 U.S.C. 1138-1138d; Departments of Labor, Health and Human Services, and Education and Related Agencies Appropriations Act, 2021, H.R. 7614, 116th Congress (2020); the explanatory statement accompanying H.R. 133 (Pub. L. 116-260).

Note: Projects will be awarded and must be operated in a manner consistent with the nondiscrimination requirements contained in Federal civil rights laws and Supreme Court precedent.

Applicable Regulations: (a) The Education Department General Administrative Regulations in 34 CFR parts 75, 77, 79, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

II. Award Information

Type of Award: Discretionary grant.

Estimated Available Funds: $1,980,000.

Contingent upon the availability of funds and the quality of applications, we may make additional awards in subsequent years from the list of unfunded applications from this competition.

Maximum Award: Up to $1,980,000 for 36 months.

Note: The maximum award is based on a 3-year budget period. Applicants will need to prepare a multiyear budget request for up to 3 years.

Estimated Number of Awards: Up to 2.

Note: The Department is not bound by any estimates in this notice.

Project Period: Up to 36 months.

III. Eligibility Information

1. Eligible Applicants: To be eligible to receive a grant under this program, an institution must—

(a) Satisfy section 322(2) of the Higher Education Act of 1965, as amended (HEA); and

(b) Have a State recognized teacher preparation program.

2. a. Cost Sharing or Matching: This competition does not require cost sharing or matching.

b. Supplement-Not-Supplant: This competition involves supplement-not-supplant funding requirements, under the waiver authority of section 437(d)(1) of GEPA. Grant funds must be used so that they supplement and, to the extent practical, increase the funds that would otherwise be available for the activities to be carried out under this grant.

c. Indirect Cost Rate Information: This program uses the waiver authority of section 437(d)(1) of GEPA to limit a grantee's indirect cost reimbursement to eight percent (8%) of a modified total direct cost base. For more information regarding indirect costs, or to obtain a negotiated indirect cost rate, please see www.ed.gov/about/offices/list/ocfo/intro.html.

d. Administrative Cost Limitation: This program does not include any program-specific limitation on administrative expenses. All administrative expenses must be reasonable and necessary and conform to Cost Principles described in 2 CFR part 200 subpart E of the Uniform Guidance.

3. Subgrantees: A grantee under this competition may not award subgrants to entities to directly carry out project activities described in its application.

IV. Application and Submission Information

1. Application Submission Instructions: Applicants are required to follow the Common Instructions for Applicants to Department of Education Discretionary Grant Programs, published in the Federal Register on February 13, 2019 (84 FR 3768), and available at www.govinfo.gov/content/pkg/FR-2019-02-13/pdf/2019-02206.pdf, which contain requirements and information on how to submit an application.

2. Intergovernmental Review: This program is subject to Executive Order 12372 and the regulations in 34 CFR part 79. However, under 34 CFR 79.8(a), we waive intergovernmental review in order to make awards by December 31, 2021.

3. Funding Restrictions: We reference regulations outlining funding restrictions in the Applicable Regulations section of this notice.

4. Recommended Page Limit: The application narrative is where you, the applicant, address the selection criteria that reviewers use to evaluate your application. We recommend that you (1) limit the application narrative to no more than 50 pages and (2) use the following standards:

• A “page” is 8.5″ x 11″, on one side only, with 1″ margins at the top, bottom, and both sides.

• Double space (no more than three lines per vertical inch) all text in the application narrative, except titles, headings, footnotes, quotations, references, and captions.

• Use a font that is either 12 point or larger or no smaller than 10 pitch (characters per inch).

• Use one of the following fonts: Times New Roman, Courier, Courier New, or Arial.

The recommended page limit does not apply to the cover sheet; the budget section, including the narrative budget justification; the assurances and certifications; or the one-page abstract. However, the recommended page limit does apply to all the application narrative.

V. Application Review Information

1. Selection Criteria: The selection criteria for this competition are from 34 CFR 75.210. The points assigned to each criterion are indicated in the parentheses next to the criterion. An applicant may earn up to a total of 100 points based on the selection criteria and up to 20 additional points under the competitive preference priorities, for a total score of up to 120 points. All applications will be evaluated based on the selection criteria as follows:

(a) Quality of the Project Design. (Maximum 50 points)

The Secretary considers the quality of the design of the proposed project. In determining the quality of the design of the proposed project, the Secretary considers the following factors:

(1) The extent to which the proposed project is part of a comprehensive effort to improve teaching and learning and support rigorous academic standards for students. (Up to 10 points)

(2) The extent to which the design of the proposed project reflects up-to-date knowledge from research and effective practice. (Up to 5 points)

(3) The extent to which the goals, objectives, and outcomes to be achieved by the proposed project are clearly specified and measurable. (Up to 5 points)

(4) The extent to which the design of the proposed project is appropriate to, and will successfully address, the needs of the target population or other identified needs. (Up to 10 points)

(5) The extent to which the proposed project demonstrates a rationale (as defined in this notice). (Up to 10 points)

(6) The extent to which the design for implementing and evaluating the proposed project will result in information to guide possible replication of project activities or strategies, including information about the effectiveness of the approach or strategies employed by the project. (Up to 10 points)

(b) Significance. (Maximum 20 points)

The Secretary considers the significance of the proposed project. In determining the significance of the proposed project, the Secretary considers the following factors:

(1) The likelihood that the proposed project will result in a system change or improvement. (Up to 10 points)

(2) The extent to which the results of the proposed project are to be disseminated in ways that will enable others to use the information or strategies. (Up to 10 points)

(c) Quality of the Project Services. (Maximum 15 points)

The Secretary considers the quality of the services to be provided by the proposed project. In determining the quality of the services to be provided by the proposed project:

(1) The Secretary considers the quality and sufficiency of strategies for ensuring equal access and treatment for eligible project participants who are members of groups that have traditionally been underrepresented based on race, color, national origin, gender, age, or disability. (Up to 5 points)

(2) In addition, the Secretary considers the following factors:

(i) The likely impact of the services to be provided by the proposed project on the intended recipients of those services. (Up to 5 points)

(ii) The extent to which the services to be provided by the proposed project involves the collaboration of appropriate partners for maximizing the effectiveness of project services. (Up to 5 points)

(d) Quality of the Management Plan. (Maximum 5 points)

The Secretary considers the quality of the management plan for the proposed project. In determining the quality of the management plan for the proposed project, the Secretary considers the adequacy of the management plan to achieve the objectives of the proposed project on time and within budget, including clearly defined responsibilities, timelines, and milestones for accomplishing project tasks.

(e) Quality of the Project Evaluation. (Maximum 10 points)

The Secretary considers the quality of the evaluation to be conducted of the proposed project. In determining the quality of the evaluation, the Secretary considers the following factors:

(1) The extent to which the evaluation will provide guidance about effective strategies suitable for replication or testing in other settings. (Up to 5 points)

(2) The extent to which the methods of evaluation will provide performance feedback and permit periodic assessment of progress toward achieving intended outcomes. (Up to 5 points)

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Risk Assessment and Specific Conditions: Consistent with 2 CFR 200.206, before awarding grants under this competition, the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with—

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: Under the Government Performance and Results Act of 1993, the Department will use the following performance measures to evaluate the success of the CEEBT grants:

(a) The number of teacher candidates who complete the preparation program.

(b) The number of teacher candidates who complete the preparation program who are Black males.

(c) The number of teacher candidates served by the funded program who become fully certified and are placed as teachers of record.

(d) The number of teacher candidates served by the funded program who are Black males and who become fully certified and are placed as teachers of record.

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Michelle Asha Cooper,
Acting Assistant Secretary for the Office of Postsecondary Education.

[FR Doc. 2021-23787 Filed 10-28-21; 8:45 am]

BILLING CODE 4000-01-P